RAILROAD RETIREMENT BOARD

Proposed Data Collection Available for Public Comment and Recommendations

SUMMARY: In accordance with the requirement of Section 3506 (c)(2)(A) of the Paperwork Reduction Act of 1995 which provides opportunity for public comment on new or revised data collections, the Railroad Retirement Board (RRB) will publish periodic summaries of proposed data collections.

Comments are invited on: (a) Whether the proposed information collections are necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and Purpose of Information Collection: Employer's Quarterly Report of Contributions Under the Railroad Unemployment Insurance Act; RRB Form DC-1; OMB 3220-0012

Under section 8 of the Railroad Unemployment Insurance Act (RUIA), as amended by the Railroad Unemployment Improvement Act of 1988 (Pub. L. 100-647), the amount of each employer's contribution is determined by the RRB, primarily on the basis of RUIA benefit payments made to the employees of that employer. These experienced based contributions, take into account the frequency, volume and duration of RUIA benefits, both unemployment and sickness, attributable to a railroad's employees. Each employer's contribution rate includes a component for administrative expenses and a component to cover costs shared by all employers. The regulations prescribing the manner and conditions for remitting the contributions and for adjusting overpayments or underpayments of contributions are contained in 20 CFR 345.

RRB Form DC-1, Employer's Quarterly Report of Contributions Under the Railroad Unemployment Insurance Act, is currently utilized by the RRB for the reporting and remitting of quarterly contributions by railroad employers. The RRB utilizes a manual version of Form DC-1 and also provides railroad employers with the option of reporting the required information and remitting their quarterly contributions via an Internet equivalent version Form DC-1.

One response is requested quarterly of each respondent and completion is mandatory. The RRB estimates that 2,160 responses are received annually. The estimated completion for the manual and Internet version of Form DC-1 is estimated at 25 minutes. The total burden for the collection is estimated at 900 hours. The RRB proposes no changes to Form DC-1.

2. Title and Purpose of Information Collection: Applicant Background Survey: RRB Form EEO-44, OMB 3220-0201

This information collection is needed to comply with Federal laws and regulations. 5 U.S.C. Chapter 72 § 7201 establishes an anti-discrimination policy. Title VII of the Civil Rights Act of 1964, § 2000e-8 [§ 709], requires agencies to make and keep relevant records to identify unlawful employment practices. 29 CFR 1602 allows agencies to collect data to determine if there is any adverse impact on employment practices such as recruitment or selection.

The RRB's Equal Employment Office collects data to assess the impact of the agency's recruitment processes on the hiring of minorities, women and people with disabilities. To obtain the information necessary to conduct a proper assessment, the RRB utilizes Form EEO-44, Applicant Background Survey, which collects information about the racial or ethnic identity, gender and disability of applicants for RRB jobs from outside of the Federal government.

Form EEO-44 is only viewed by RRB Human Resources personnel and Equal Employment Opportunity officials. Summarized data from all external applicants for a position is used to identify hiring barriers which limit or tends to limit employment opportunities for members of a particular sex, race, or ethnic background, or based on an individual's disability status.

The EEO-44 contains a “Plain English” assurance that the information will be kept highly confidential and only shared with authorized RRB officials. This assurance specifically states that the information obtained is kept as a running tally which cannot be disaggregated into individual names, that information from the form is not entered into the RRB's personnel database, that the information is not provided to selecting officials or any others who can affect the selection, or to the public, and that the forms is destroyed after the position is filled. The information maintained does not include the applicant's name or other identifier.

Completion of one form is requested of each respondent and is voluntary. The RRB estimates that 800 EEO-44's are completed annually at an estimated completion time of 5 minutes. The total burden for the collection is estimated at 67 hours. The RRB proposes no changes to Form EEO-44.

Additional Information or Comments: To request more information or to obtain a copy of the information collection justification, forms, and/or supporting material, please call the RRB Clearance Officer at (312) 751-3363 or send an e-mail request to Charles.Mierzwa@RRB.GOV. Comments regarding the information collection should be addressed to Ronald J. Hodapp, Railroad Retirement Board, 844 North Rush Street, Chicago, Illinois 60611-2092 or send an e-mail to Ronald.Hodapp@RRB.GOV. Written comments should be received within 60 days of this notice.

Charles Mierzwa,
Clearance Officer.

[FR Doc. E9-970 Filed 1-15-09; 8:45 am]

BILLING CODE 7905-01-P